OFFICE OF THE UNITED STATES TRADE REPRESENTATIVE

Determination Under the African Growth and Opportunity Act

AGENCY: Office of the United States Trade Representative.

ACTION: Notice.

SUMMARY: The United States Trade Representative has determined that Kenya has adopted an effective visa system and related procedures to prevent unlawful transshipment and the use of counterfeit documents in connection with shipments of textile and apparel articles and has implemented and follows, or is making substantial progress toward implementing and following, the customs procedures required by the African Growth and Opportunity Act. Therefore, imports of eligible products from Kenya qualify for the enhanced trade benefits provided under the AGOA.

EFFECTIVE DATE: January 18, 2001.

FOR FURTHER INFORMATION CONTACT: Bethany Schwartz, Director for African Affairs, Office of the United States Trade Representative, (202) 395-9514.

SUPPLEMENTARY INFORMATION: The African Growth and Opportunity Act (Title I of the Trade and Development Act of 2000, Pub. L. No. 106-200) (AGOA) provides preferential tariff treatment for imports of certain textile and apparel products of beneficiary sub-Saharan African countries. The textile and apparel trade benefits provided by the AGOA are available to imports of eligible products from countries that the President designates as “beneficiary sub-Saharan African countries,” provided that these countries (1) have adopted an effective visa system and related procedures to prevent unlawful transshipment and the use of counterfeit documents, and (2) have implemented and follow, or are making substantial progress toward implementing and following, certain customs procedures that assist the Customs Service in verifying the origin of the products.

In Proclamation 7350 of October 2, 2000, the President designated 34 countries as “beneficiary sub-Saharan African countries.” Proclamation 7350 delegated to the United States Trade Representative (USTR) the authority to determine whether these countries have met the two requirements described above. The President directed the USTR to announce any such determinations in the Federal Register and to implement them through modifications of the Harmonized Tariff Schedule of the United States (HTS). Based on actions that Kenya has taken, I have determined that Kenya has satisfied these two requirements.

The AGOA also directs the President to eliminate the existing quotas on textile and apparel articles imported into the United States from Kenya within 30 days after Kenya adopts an effective visa system to prevent unlawful transshipment of textile and apparel articles and the use of counterfeit documents relating to the importation of such articles into the United States. Proclamation 7350 delegated this responsibility to the USTR.

Accordingly, pursuant to the authority vested in the USTR by Proclamation 7350, the HTS is modified as provided in Proclamation 7350 and as specified in the Annex to this notice, effective with respect to articles entered, or withdrawn from warehouse, for consumption on or after January 18, 2001. Importers claiming preferential tariff treatment under the AGOA for entries of textile and apparel articles should ensure that those entries meet the applicable visa requirements. (The visa requirements are described in a separate notice that is being published in the Federal Register concurrently with this notice.) By this notice, I direct the Customs Service to eliminate the existing quotas on textile and apparel articles imported into the United States from Kenya within 30 days of the effective date of this notice.

Charlene Barshefsky,
United States Trade Representative.

Annex

Pursuant to the authority provided in Proclamation 7350, the HTS is modified as follows:

1. The text of U.S. note 7 to subchapter II of chapter 98, as established by the annex to such Proclamation, is modified by inserting before it the paragraph designation “(a)”. Such paragraph is modified by inserting at the end thereof the following new sentence and enumeration:

“The USTR has determined that the following countries have adopted an effective visa system and related procedures and have satisfied the customs requirements of the AGOA and, therefore, are to be afforded the tariff treatment provided for in this note: Kenya”

2. U.S. note 1 to subchapter XIX of chapter 98 of the HTS, as established by the annex to such Proclamation, is modified by adding at the end of the text of such note the following new sentence and enumeration:

“The USTR has determined that the following countries have adopted an effective visa system and related procedures and have satisfied the customs requirements of the AGOA and, therefore, are to be afforded the tariff treatment provided for in this note: Kenya”

3. U.S. note 2(d) to subchapter XIX of chapter 98 of the HTS, as established by the annex to such Proclamation, is modified by adding at the end of the text the following new sentence and enumeration:

“Products of the following countries qualifying as lesser developed beneficiary sub-Saharan African countries for purposes of such subheading, if described therein, shall be eligible to enter thereunder, provided that such countries are named in U.S. note 1 to this subchapter on the date of entry, or withdrawal from warehouse for consumption:

Republic of Benin

Republic of Cape Verde

Republic of Cameroon

Central African Republic

Republic of Chad

Republic of Congo

Republic of Djibouti

State of Eritrea

Ethiopia

Republic of Ghana

Republic of Guinea

Republic of Guinea-Bissau

Republic of Kenya

Kingdom of Lesotho

Republic of Madagascar

Republic of Malawi

Republic of Mali

Islamic Republic of Mauritania

Republic of Mozambique

Republic of Niger

Federal Republic of Nigeria

Republic of Rwanda

Democratic Republic of Sao

Tomé and Principe

Republic of Senegal

Republic of Sierra Leone

United Republic of Tanzania

Republic of Uganda

Republic of Zambia”

[FR Doc. 01-2209 Filed 1-24-01; 8:45 am]

BILLING CODE 3190-01-U